DEPARTMENT OF LABOR

Employment and Training Administration

[TA-W-70,055]

Ovonic Energy Products Including On-Site Leased Workers From PDSI Springboro, OH; Amended Certification Regarding Eligibility To Apply for Worker Adjustment Assistance

In accordance with Section 223 of the Trade Act of 1974, as amended (“Act”), 19 U.S.C. 2273, the Department of Labor issued a Certification of Eligibility to Apply for Worker Adjustment Assistance on August 28, 2009, applicable to workers of Ovonic Energy Products, Springboro, Ohio. The notice was published in the Federal Register on November 5, 2009 (74 FR 57340).

At the request of the State Agency, the Department reviewed the certification for workers of the subject firm. The workers are engaged in the production of batteries and related energy storage systems.

New information shows that workers leased from PDSI were employed on-site at the Springboro, Ohio location of Ovonic Energy Products. The Department has determined that these workers were sufficiently under the control of the subject firm to be considered leased workers.

Based on these findings, the Department is amending this certification to include workers leased from PDSI working on-site at the Springboro, Ohio location of Ovonic Energy Products.

The amended notice applicable to TA-W-70,055 is hereby issued as follows:

All workers of Ovonic Energy Products, including on-site leased workers from PDSI, Springboro, Ohio, who became totally or partially separated from employment on or after May 18, 2008, through August 28, 2011, and all workers in the group threatened with total or partial separation from employment on the date of certification through two years from the date of certification, are eligible to apply for adjustment assistance under Chapter 2 of Title II of the Trade Act of 1974, as amended.

Signed at Washington, DC, this 4th day of May 2010.
Elliott S. Kushner
Certifying Officer, Division of Trade Adjustment Assistance.

[FR Doc. 2010-12111 Filed 5-19-10; 8:45 am]

BILLING CODE 4510-FN-P